ENVIRONMENTAL PROTECTION AGENCY

[EPA-HQ-OW-2009-0761; FRL-9149-8]

Executive Order 13508 Chesapeake Bay Protection and Restoration Section 203 Final Coordinated Implementation Strategy

AGENCY: Environmental Protection Agency (EPA).

ACTION: Notice of availability.

SUMMARY: This notice announces the availability of a final strategy for restoration and protection of the Chesapeake Bay that was prepared pursuant to Executive Order (EO) 13508 of May 12, 2009, Chesapeake Bay Protection and Restoration. The purpose of this strategy is to describe federal actions to protect and restore the health, heritage, natural resources, and social and economic value of the nation's largest estuarine ecosystem and the natural sustainability of its watershed. The EO requires that the final strategy be published within one year of the date of the EO.

DATES: Effective May 12, 2010.

FOR FURTHER INFORMATION CONTACT: Travis Loop, USEPA, Region 3, Chesapeake Bay Program Office, Annapolis City Marina, 410 Severn Avenue, Suite 109 (3CB10), Annapolis, MD 21403; telephone number: (410) 267-5758; fax number: (410) 267-5777; e-mail: loop.travis@epa.gov.

SUPPLEMENTARY INFORMATION:

I. General Information

Executive Order 13508, Chesapeake Bay Protection and Restoration, dated May 12, 2009 (74 FR 23099, May 15, 2009), established a Federal Leadership Committee, chaired by EPA, and including senior representatives from the departments of Agriculture, Commerce, Defense, Homeland Security, Interior and Transportation. EO 13508 directed these agencies to prepare and publish a strategy for coordinated implementation of existing programs and projects to guide efforts to protect and restore the Chesapeake Bay. The draft strategy was released for public comment on November 9, 2009 (74 FR 57675, November 9, 2009). This final strategy incorporates revisions resulting from public comments and ongoing consideration by the federal agencies.

Why was this document prepared?

Executive Order 13508, Chesapeake Bay Protection and Restoration, dated May 12, 2009 (74 FR 23099, May 15, 2009), required a Federal Leadership Committee composed of seven Federal agencies to (1) prepare and publish a set of reports on key challenges to protecting and restoring the Chesapeake Bay, (2) prepare and publish a draft strategy for coordinated implementation of existing programs and projects to guide efforts to protect and restore the Chesapeake Bay within 180 days of the date of the EO, and (3) prepare and publish a final strategy for coordinated implementation of existing programs and projects to guide efforts to protect and restore the Chesapeake Bay within one year of the date of the EO.

The federal agency draft reports required by EO 13508 Sections 202(a) through (g) were released to the public for review on September 10, 2009. The draft reports were reviewed by the Federal Leadership Committee, in consultation with relevant state agencies. The reports were revised to reflect consideration of the comments received during state consultation and preliminary public input. The revised final reports were released on November 24, 2009.

The draft strategy for coordinated implementation of existing programs and projects to guide efforts to protect and restore the Chesapeake Bay required by EO 13508 Section 203 was released for public comment on November 9, 2009 (74 FR 57675, November 9, 2009). The Federal Leadership Committee established a docket for public comments (EPA-HQ-OW-2009-0761). Several hundred individual comments were received, along with about 45,000 comments provided through mass-mailing campaigns. The Federal Leadership Committee has prepared a summary of its responses to public comments on the draft strategy. The summary is available at http://executiveorder.chesapeakebay.net.

The final strategy for restoration and protection of the Chesapeake Bay incorporates revisions resulting from public comments and ongoing consideration by the federal agencies. This final strategy meets the EO requirement to publish the final strategy within one year of the EO.

How can I get copies of this document and other related information?

Docket: EPA has established a docket for this action under Docket ID No. EPA-HQ-OW-2009-0761. The final EO 13508 Section 203 strategy document is available in the docket at http://www.regulations.gov, as well as at http://executiveorder.chesapeakebay.net. Assistance and tips for accessing the docket can be found at http://executiveorder.chesapeakebay.net. For additional information about the public docket visit the EPA Docket Center homepage at http://www.epa.gov/epahome/dockets.htm. Publicly available docket materials are available electronically either through http://www.regulations.gov or in hard copy at the EPA Docket Center, (EPA/DC) EPA West, Room 3334, 1301 Constitution Ave., NW., Washington, DC. The telephone number for this docket is 202-566-2426. The EPA Docket Center Public Reading Room is open from 8:30 a.m. to 4:30 p.m., Monday through Friday, excluding legal holidays. The telephone number for the Public Reading Room is (202) 566-1744. Certain material, such as copyrighted materials, will be publicly available only in hard copy at the Docket Center.

What information does the final strategy contain?

The Executive Order directed federal agencies to develop a strategy that (a) defines environmental goals for the Chesapeake Bay and describes milestones for making progress toward attainment of these goals; (b) identifies key measurable indicators of environmental condition and changes that are critical to effective federal leadership; (c) describes the specific programs and strategies to be implemented; (d) identifies the mechanisms that will assure that governmental and other activities, including data collection and distribution, are coordinated and effective; and (e) describes a process for the implementation of adaptive management principles, including a periodic evaluation of protection and restoration measures.

For the final strategy, federal agencies have focused on achieving the most essential priorities for a healthy Chesapeake ecosystem: Restore Clean Water, Recover Habitats, Sustain Fish and Wildlife, and Conserve Land and Increase Public Access. Chapters on each of these goals describe the overall goal and explain why it is vital to the Chesapeake Bay ecosystem. Specific measures of progress supporting the goal, including numerical targets for future progress compared to current conditions, are also presented. Each chapter also includes a description of the actions federal agencies will take to accomplish the goal.

Federal agencies also developed 12 key environmental outcomes that will be achieved through expanded federal actions described in the strategy and ongoing state activities, and will reflect progress toward attainment of the overall goals. The environmental outcomes are related to water quality, stream restoration, agriculture conservation, wetland restoration, forest buffers, fish passage, oysters, blue crabs, brook trout, black ducks, land conservation, and public access.

The strategy also features four chapters on supporting strategies that provide invaluable cross-cutting support to achieving environmental goals or are critical complementary efforts in the restoration and protection of the Chesapeake Bay and watershed. The supporting strategy chapters are: Expand Citizen Stewardship, Develop Environmental Markets, Respond to Climate Change, and Strengthen Science.

The final chapter of the strategy outlines the role and responsibilities of the Federal Leadership Committee in implementing the strategy, as well as the federal government's commitment to increase accountability by establishing milestones every two years for taking action. The final chapter also outlines a series of accountability tools and processes to promote transparency in the planning, tracking, reporting, evaluating and adapting of restoration activities. These tools include an Annual Action Plan, an Annual Progress Report, Independent Evaluation, and an Adaptive Management process.

What are the next steps in responding to EO 13508?

After release of this final strategy, the Federal Leadership Committee will implement the actions described in the strategy. The Federal Leadership Committee will continue to work with the jurisdictions in the Chesapeake Bay watershed to better align actions to protect and restore the Chesapeake Bay.

EO 13508 also requires the Federal Leadership Committee to publish an annual Chesapeake Bay Action Plan describing how federal funding proposed in the President's Budget will be used to protect and restore the Chesapeake Bay during the upcoming fiscal year. The Federal Leadership Committee plans to release the first annual Chesapeake Bay Action Plan in early fall 2010.

EO 13508 also requires the Federal Leadership Committee to publish an annual Progress Report reviewing indicators of environmental conditions in the Chesapeake Bay, assessing implementation of the Action Plan during the preceding fiscal year, and recommending steps to improve progress in restoring and protecting the Chesapeake Bay. The Federal Leadership Committee plans to release the first annual Progress Report in the first quarter of calendar year 2012.

The Federal Leadership Committee plans to consult with state agencies, local governments, other stakeholders, and the general public in the development of the annual Action Plan and Progress Report. The details of this consultation process will be made available at http://executiveorder.chesapeakebay.net.

Dated: May 6, 2010.
Lisa P. Jackson,
Administrator.

[FR Doc. 2010-11143 Filed 5-10-10; 8:45 am]

BILLING CODE 6560-50-P